DEPARTMENT OF JUSTICE

Antitrust Division

Notice Pursuant to the National Cooperative Research and Production Act of 1993—OBI Consortium, Inc.

Notice is hereby given that, on June 15, 2000, pursuant to Section 6(a) of the National Cooperative Research and Production Act of 1993, 15 U.S.C. 4301 et seq. (“the Act”), OBI Consortium, Inc. has filed written notifications simultaneously with the Attorney General and the Federal Trade Commission disclosing changes in its membership status. The notifications were filed for the purpose of extending the Act's provisions limiting the recovery of antitrust plaintiffs to actual damages under specified circumstances. Specifically, bCandid Corporation, Boulder, CO; BEA Systems, San Jose, CA; Catalyst Capital, Newport Beach, CA; Consolidated Commerce, Des Plains, IL; Ectone, Santa Clara, CA; ESSELTE Corporation, Greenwich, CT; Medium, Wayne, PA; and Passport International, Ltd., Mt. Pleasant, SC have been added as parties to this venture.

No other changes have been made in either the membership or planned activity of the group research project. Membership in this group research project remains open, and OBI Consortium, Inc. intends to file additional written notification disclosing all changes in membership.

On September 10, 1997, OBI Consortium, Inc. filed its original notification pursuant to Section 6(a) of the Act. The Department of Justice published a notice in the Federal Register pursuant to Section 6(b) of the Act on November 10, 1997 (62 FR 60531).

The last notification was filed with the Department on March 3, 2000. A notice was published in the Federal Register pursuant to Section 6(b) of the Act on June 29, 2000 (65 FR 40131).

Constance K. Robinson,
Director of Operations Antitrust Division.

Joint Venture Worksheet

(Supplemental Filings Only)

A. Name of venture: OBI Consortium, Inc.

Nature of notification: Supplemental

Concise statement of purpose (if purpose has changed): Same as before—no changes.

B. For ventures involving research and development only:

Identity of parties added to venture:

1. bCandid Corporation, Boulder, CO

2. BEA Systems, San Jose, CA

3. Catalyst Capital, Newport Beach, CA

4. Consolidated Commerce, Des Plaines, IL

5. Ectone, Santa Clara, CA

6. ESSELTE Corporation, Greenwich, CT

7. iMedium, Wayne, PA

8. Passport International, Ltd., Mt. Pleasant, SC

Identity of parties dropped from venture:

C. For ventures involving production:

Identity and nationality of parties to joint production venture:

[FR Doc. 00-19387 Filed 7-31-00; 8:45 am]

BILLING CODE 4410-11-M